CONSUMER PRODUCT SAFETY COMMISSION

Petition Requesting Performance Standard for Bicycle Handlebars; Extension of Comment Period

AGENCY: Consumer Product Safety Commission.

ACTION: Notice.

SUMMARY: The Commission has received a petition (HP 01-1) requesting that the Commission issue a performance standard for bicycle handlebars regarding energy dissipation and distribution during impact. By notice published in the Federal Register of February 14, 2001, the Commission solicited written comments concerning the petition. 66 FR 10273. In response to a request to do so, the Commission is now extending the comment period on the petition for an additional 30 days.

DATES: The Office of the Secretary must receive comments on the petition not later than May 16, 2001.

ADDRESSES: Comments on the petition, preferably in five copies, should be mailed to the Office of the Secretary, Consumer Product Safety Commission, Washington, DC 20207, telephone (301) 504-0800, or delivered to the Office of the Secretary, Room 501, 4330 East-West Highway, Bethesda, Maryland 20814. Comments may also be filed by facsimile to (301) 504-0127 or by e-mail to cpsc-os@cpsc.gov. Comments should be captioned “Petition HP 01-1, Petition for Bicycle Handlebar Performance Standard.”

FOR FURTHER INFORMATION CONTACT: Rockelle Hammond, Office of the Secretary, Consumer Product Safety Commission, Washington, DC 20207; telephone (301) 504-0800, ext. 1232.

SUPPLEMENTARY INFORMATION: The Commission received correspondence from Flaura Koplin Winston, MD., Ph.D., Director, The Interdisciplinary Pediatric Injury Control Research Center, Children's Hospital of Philadelphia, requesting that the Commission issue a rule prescribing performance standards for bicycle handlebars regarding energy dissipation and distribution during impact. The Commission docketed the correspondence as a petition (Petition No. HP 01-1) under provisions of the Federal Hazardous Substances Act (“FHSA”), 15 U.S.C. §§ 1261-1278.

Interested parties may obtain a copy of the petition by writing or calling the Office of the Secretary, Consumer Product Safety Commission, Washington, DC 20207; telephone (301) 504-0800. The petition can also be obtained from the CPSC world wide web site at: http://www.cpsc.gov/library/foia/foia01/petition/bicycle.pdf

A copy of the petition is available for inspection from 8:30 a.m. to 5 p.m., Monday through Friday, in the Commission's Public Reading Room, Room 419, 4330 East-West Highway, Bethesda, Maryland.

By notice published in the Federal Register of February 14, 2001, the Commission established a 60 day comment period on the petition. 66 FR 10273. By this notice, the Commission is granting a request that the comment period be extended for thirty days, that is, through May 16, 2001.

Dated: April 11, 2001.
Sadye E. Dunn,
Secretary, Consumer Product Safety Commission.

[FR Doc. 01-9395 Filed 4-13-01; 8:45 am]

BILLING CODE 6355-01-P